DEPARTMENT OF ENERGY

Proposed Agency Information Collection

AGENCY: Department of Energy.

ACTION: Notice and request for comments.

SUMMARY: The Department of Energy (DOE) invites public comment on a proposed collection of information that DOE is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before October 20, 2003. If you anticipate difficulty in submitting comments within that period, contact the person listed below as soon as possible.

ADDRESSES: Written comments may be sent to (1) Lorena F. Truett, Oak Ridge National Laboratory, P.O. Box 2008, Oak Ridge, TN 37831-6073; or by fax to (865) 574-3851; or by e-mail to TruettLF@ORNL.gov; and to (2) Sharon Evelin, Acting Director, Records Management Division IM-11/Germantown Bldg., Office of Business and Information Management, Office of the Chief Information Officer, U.S. Department of Energy, Washington, DC 20585-1290.

FOR FURTHER INFORMATION CONTACT: Requests for additional information or copies of the information collection instrument and instructions should be directed to Lorena F. Truett, Oak Ridge National Laboratory, phone (865) 574-4225, fax (865) 574-3851, e-mail TruettLF@ORNL.gov.

SUPPLEMENTARY INFORMATION: This package contains the following supplementary information:

(1) OMB No.: NEW.

(2) Package Title: Hydrogen, Fuel Cells & Infrastructure Technologies Program Baseline Knowledge Assessment.

(3) Type of Review: New collection.

(4) Purpose: The Baseline Knowledge Assessment for the DOE Hydrogen, Fuel Cells & Infrastructure Technologies (HFC&IT) program will measure the levels of and changes in awareness and understanding of hydrogen and fuel cell technologies and the hydrogen economy within four target populations: (1) The general public, (2) students and educators, (3) personnel in state and local governments, and (4) potential users of hydrogen fuel and technologies in business and industry. Four distinct information collections will be required, one for each of the target populations. These collections will be conducted in stages, with the general public study conducted first. Changes relative to baseline knowledge levels will be determined when, after three years, each population group will be surveyed again using the same survey instrument and methodology. The instrument for assessing baseline knowledge will be specifically targeted to the population group. The public survey, for example, will assess a general knowledge of the production, storage, delivery, applications, and safety of hydrogen and fuel cells. Information gathered in this assessment will assist the HFC&IT program in formulating an overall education plan for hydrogen technologies. It will also provide a baseline for determining changes in public awareness and understanding of the hydrogen economy, which is an important measure from which the success of program education strategies can be evaluated.

(5) Respondents: Although the numbers of respondents and methods of information collection will differ for each of the populations, the general scope and temper of the four collections will be the same. The general public will be surveyed first. That survey and the general public responses may influence the design of the surveys for the other target populations. For the general public, a random (probability sample) survey of 1,000 adults, age 18 and over, will be conducted via computer-assisted phone telephone interviews (CATI) or by other appropriate mechanism. About twenty closed-end questions will be posed. For students, a random survey of 500 teens (ages 12-17) and 500 pre-teens (ages 6-11) will be conducted, also using CATI or other technology and closed-end questions. Approximately 100-150 primary and secondary educators will be randomly selected from a national contact list for interviewing. Questions for educators will be of both closed-end and open-end formats. Contacts with energy agencies in all 50 states and the District of Columbia will be made, and a limited number of local (i.e., municipal) agencies will also be contacted. Questions to state and local government agencies will be of both closed-end and open-end formats. A limited number of large-scale or potential large-scale users of energy sources powered by hydrogen and fuel cells will also be interviewed using both closed-end and open-end questions.

(6) Estimated Number of Burden Hours: For the general public survey, the burden is estimated at ten minutes per respondent for 1,000 respondents, for a total time and cost burden of 167 hours and $0. The total burdens for the other populations will depend on the designs of those surveys, but will be similar in temper and scope to the burden for the general public survey. The total time and cost burden for the student survey is tentatively estimated to be 133 hours and $0; the total burden for educators is estimated to be 25 hours and $0. The total burden for the state and local government and large-scale user surveys is expected to be less than the burden for the student survey.

Statutory Authority: Energy Reorganization Act of 1974 (Public Law 93-438).

Issued in Washington, DC, on August 13, 2003.
Sharon Evelin,
Acting Director, Records Management Division, Office of Records and Business Management, Office of the Chief Information Officer.

[FR Doc. 03-21299 Filed 8-19-03; 8:45 am]

BILLING CODE 6450-01-P